DEPARTMENT OF ENERGY

Federal Energy Regulatory Commission

[Project No. 14752-001]

Rivertec Partners LLC; Notice of Intent To File License Application, Filing of Pre-Application Document, and Approving Use of the Traditional Licensing Process

a. Type of Filing: Notice of Intent to File License Application and Request to Use the Traditional Licensing Process.

b. Project No.: 14752-001.

c. Date Filed: April 6, 2017.

d. Submitted By: Rivertec Partners LLC.

e. Name of Project: Sherman Hydroelectric Project.

f. Location: On the Columbia River near Rufus in Sherman County, Oregon. The project is located at the U.S. Corps of Engineers' John Day Dam Juvenile Fish Sampling and Monitoring Facility.

g. Filed Pursuant to: 18 CFR 5.3 of the Commission's regulations.

h. Potential Applicant Contact: Mark Steinley, Rivertec Partners LLC, 521 Thorn Street, #331, Sewickley, PA 15143; email—msteinley@bkmcapital.com; (480) 435-0846.

i. FERC Contact: Kim Nguyen at (202) 502-6105; or email at kim.nguyen@ferc.gov.

j. Rivertec Partners LLC filed its request to use the Traditional Licensing Process on April 6, 2017. Rivertec Partners LLC provided public notice of its request on May 8, 2017. In a letter dated May 16, 2017, the Director of the Division of Hydropower Licensing approved Rivertec Partners LLC's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the Oregon State Historic Preservation Officer, as required by section 106, National Historic Preservation Act, and the implementing regulations of the Advisory Council on Historic Preservation at 36 CFR 800.2.

l. With this notice, we are designating Rivertec Partners LLC as the Commission's non-federal representative for carrying out informal consultation pursuant to section 7 of the Endangered Species Act and section 305(b) of the Magnuson-Stevens Fishery Conservation and Management Act; and consultation pursuant to section 106 of the National Historic Preservation Act.

m. Rivertec Partners LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the eLibrary link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: May 16, 2017.
Kimberly D. Bose,
Secretary.

[FR Doc. 2017-10381 Filed 5-19-17; 8:45 am]

BILLING CODE 6717-01-P